DEPARTMENT OF TRANSPORTATION

Federal Aviation Administration

14 CFR Part 39

[Docket No. FAA-2004-18024; Directorate Identifier 2003-NE-39-AD; Amendment 39-14034; AD 2005-07-10]

RIN 2120-AA64

Airworthiness Directives; Rolls-Royce (1971) Limited, Bristol Engine Division Model Viper Mk.601-22 Turbojet Engines

AGENCY: Federal Aviation Administration (FAA), DOT.

ACTION: Final rule.

SUMMARY: The FAA is superseding an existing airworthiness directive (AD) for Rolls-Royce (1971) Limited, Bristol Engine Division (RR) model Viper Mk.601-22 turbojet engines. That AD currently requires reducing the life of certain 1st stage turbine rotor blades from 7,000 hours time-in-service (TIS) to 4,600 hours TIS, and provides a drawdown schedule for blades that have already exceeded the new reduced life limit. This AD requires the same actions but changes certain compliance times to be in agreement with RR Alert Service Bulletin (ASB) No. 72-A184, dated January 2001. This AD results from comments received on AD 2004-13-03, that the AD is unnecessarily more restrictive than the requirements in the associated RR ASB No. 72-A184. We are issuing this AD to prevent multiple failures of 1st stage turbine rotor blades that could result in a dual-engine shutdown.

DATES: This AD becomes effective May 5, 2005.

ADDRESSES: You can get the service information identified in this proposed AD from Rolls-Royce Limited, Bristol Engines Division, Technical Publications Department CLS-4, P.O. Box 3, Filton, Bristol, BS34 7QE England; telephone 117-979-1234, fax 117-979-7575.

You may examine the AD docket on the Internet at http://dms.dot.gov or in Room PL-401 on the plaza level of the Nassif Building, 400 Seventh Street, SW., Washington, DC.

FOR FURTHER INFORMATION CONTACT: Ian Dargin, Aerospace Engineer, Engine Certification Office, FAA, Engine and Propeller Directorate, 12 New England Executive Park, Burlington, MA 01803-5299; telephone (781) 238-7178; fax (781) 238-7199.

SUPPLEMENTARY INFORMATION: The FAA proposed to amend 14 CFR part 39 with a proposed airworthiness directive (AD). The proposed AD applies to Rolls-Royce (1971) Limited, Bristol Engine Division (RR) model Viper Mk.601-22 turbojet engines. We published the proposed AD in the Federal Register on October 29, 2004 (69 FR 63104). That action proposed to require reducing the life of certain 1st stage turbine rotor blades from 7,000 hours TIS to 4,600 hours TIS, provide a drawdown schedule for blades that have already exceeded the new reduced life limit, and change certain compliance times to be in agreement with RR ASB No. 72-A184, dated January 2001.

Examining the AD Docket

You may examine the docket that contains the AD, any comments received, and any final disposition in person at the DMS Docket Offices between 9 a.m. and 5 p.m., Monday through Friday, except Federal holidays. The Docket Office (telephone (800) 647-5227) is located on the plaza level of the Department of Transportation Nassif Building at the street address stated in ADDRESSES. Comments will be available in the AD docket shortly after the DMS receives them.

Comments

We provided the public the opportunity to participate in the development of this AD. We received no comments on the proposal or on the determination of the cost to the public.

Conclusion

We have carefully reviewed the available data and determined that air safety and the public interest require adopting the AD as proposed.

Costs of Compliance

We estimate that 84 RR model Viper Mk.601-22 turbojet engines installed on airplanes of U.S. registry will be affected by this AD. We estimate that no additional labor cost will be incurred to replace 1st stage turbine rotor blades when done at time of engine overhaul. A replacement set 1st stage turbine rotor blades costs about $166,987. Based on these figures, we estimate the total cost of the AD to U.S. operators to be $14,026,950.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary at the address listed under ADDRESSES.

List of Subjects in 14 CFR Part 39

Air transportation, Aircraft, Aviation safety, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13684 69 FR 34563, June 22, 2004, and by adding a new airworthiness directive, Amendment 39-14034, to read as follows:

2005-07-10 Rolls-Royce (1971) Limited, Bristol Engine Division: Amendment 39-14034 Docket No. FAA-2004-18024; Directorate Identifier 2003-NE-39-AD.

Effective Date

(a) This airworthiness directive (AD) becomes effective May 5, 2005.

Affected ADs

(b) This AD supersedes AD 2004-13-03.

Applicability

(c) This AD applies to Rolls-Royce (1971) Limited, Bristol Engine Division (RR) Model Viper Mk.601-22 turbojet engines. These engines are installed on, but not limited to, Raytheon HS.125 Series 600 and BH.125 Series 600 airplanes.

Unsafe Condition

(d) This AD results from comments received on AD 2004-13-03, that the AD is unnecessarily more restrictive than the requirements in the associated RR Alert Service Bulletin (ASB) No. 72-A184. We are issuing this AD to prevent multiple failures of 1st stage turbine rotor blades that could result in a dual-engine shutdown.

Compliance

(e) You are responsible for having the actions required by this AD performed within the compliance times specified unless the actions have already been done.

New Reduced Life Limit

(f) Change the RR Time Limits Manual life limit for the 1st stage turbine rotor blades, part numbers (P/Ns) V926000, V926293, and V926319, from 7,000 hours time-in-service (TIS) to 4,600 hours TIS.

(g) Limit the number of installed engines with 1st stage turbine rotor blades that exceed 4,600 hours TIS on the effective date of this AD as specified in the following Table 1:

Table 1.—Installed Engines
On the effective date of this AD, if: | Then:
(1) Both engines installed on the airplane have 1st stage turbine rotor blades that exceed 5,800 hours TIS | Replace the 1st stage turbine rotor blades in the engine that has the higher blade life within 50 hours TIS or 6 weeks after the effective date of this AD, whichever occurs first.
(2) One engine installed on the airplane has 1st stage turbine rotor blades that exceed 5,800 hours TIS, and the other engine has 1st stage turbine rotor blades that exceed 4,600 hours TIS | Replace the 1st stage turbine rotor blades in the engine that has the higher blade life within 100 hours TIS or 4 months after the effective date of this AD, whichever occurs first.
(3) One engine installed on the airplane has 1st stage turbine rotor blades that exceed 5,800 hours TIS, and the other engine has 1st stage turbine rotor blades with fewer than 4,600 hours TIS | Replace the 1st stage turbine rotor blades in the engine that has the higher blade life within 200 hours TIS or 6 months after the effective date of this AD, whichever occurs first.
(4) One engine installed on the airplane has 1st stage turbine rotor blades that exceed 4,600 hours TIS, but have fewer than 5,800 hours TIS, and the other engine has 1st stage turbine rotor blades with fewer than 4,600 hours TIS | Replace the 1st stage turbine rotor blades in the engine that has the higher blade life at 5,800 hours TIS or 6 months after the effective date of this AD, whichever occurs later.

(h) No engine may operate with a blade life exceeding 5,800 hours TIS, applicable beginning 6 months from the effective date of this AD.

(i) No engine may operate with a blade life exceeding 4,600 hours TIS, applicable beginning 3 years from the effective date of this AD.

Installation of Engines After the Effective Date of This AD

(j) After the effective date of this AD, do not install any engine that has 1st stage turbine rotor blades, P/Ns V926000, V926293, or V926319, that exceed 4,600 hours TIS, except as allowed in Table 1 of this AD.

Alternative Methods of Compliance

(k) The Manager, Engine Certification Office, has the authority to approve alternative methods of compliance for this AD if requested using the procedures found in 14 CFR 39.19.

Material Incorporated by Reference

(l) None.

Related Information

(m) Civil Aviation Authority airworthiness directive AD 004-01-2001, dated January 2001, also addresses the subject of this AD.

Issued in Burlington, Massachusetts, on March 25, 2005.
Jay J. Pardee,
Manager, Engine and Propeller Directorate, Aircraft Certification Service.

[FR Doc. 05-6342 Filed 3-30-05; 8:45 am]

BILLING CODE 4910-13-P